DEPARTMENT OF TRANSPORTATION

Federal Aviation Administration

14 CFR Part 39

[Docket No. FAA-2021-0103; Project Identifier MCAI-2020-00604-E]

RIN 2120-AA64

Airworthiness Directives; Pratt & Whitney Canada Corp. Turboshaft Engines

AGENCY: Federal Aviation Administration (FAA), DOT.

ACTION: Notice of proposed rulemaking (NPRM).

SUMMARY: The FAA proposes to adopt a new airworthiness directive (AD) for all Pratt & Whitney Canada Corp. (P&WC) PW210A and PW210S model turboshaft engines. This proposed AD was prompted by a report from the manufacturer that the Automated Damage Tracking System (ADTS) may under-count the number of cycles accrued by the impeller and the high-pressure compressor (HPC) rotor. The impeller and HPC rotor are both life-limited components and exceeding their published life limits could result in the failure of these components. This proposed AD would require the use of the manual low-cycle fatigue (LCF) counting method in place of the ADTS counting method to determine the number of cycles accrued by the impeller and HPC rotor. The FAA is proposing this AD to address the unsafe condition on these products.

DATES: The FAA must receive comments on this proposed AD by April 12, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Pratt & Whitney Canada Corp., 1000 Marie-Victorin, Longueuil, Quebec, J4G 1A1 Canada; phone: (800) 268-8000. You may view this service information at the FAA, Airworthiness Products Section, Operational Safety Branch, 1200 District Avenue, Burlington, MA 01803. For information on the availability of this material at the FAA, call (781) 238-7759.

Examining the AD Docket

You may examine the AD docket at https://www.regulations.gov by searching for and locating Docket No. FAA-2021-0103; or in person at Docket Operations between 9 a.m. and 5 p.m., Monday through Friday, except Federal holidays. The AD docket contains this NPRM, the mandatory continuing airworthiness information (MCAI), any comments received, and other information. The street address for Docket Operations is listed above.

FOR FURTHER INFORMATION CONTACT: Barbara Caufield, Aviation Safety Engineer, ECO Branch, FAA, 1200 District Avenue, Burlington, MA 01803; phone: (781) 238-7146; fax: (781) 238-7199; email: barbara.caufield@faa.gov.

SUPPLEMENTARY INFORMATION:

Comments Invited

The FAA invites you to send any written relevant data, views, or arguments about this proposal. Send your comments to an address listed under ADDRESSES. Include “Docket No. FAA-2021-0103; Project Identifier MCAI-2020-00604-E” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact we receive about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Barbara Caufield, Aviation Safety Engineer, ECO Branch, FAA, 1200 District Avenue, Burlington, MA 01803. Any commentary that the FAA receives which is not specifically designated as CBI will be placed in the public docket for this rulemaking.

Background

Transport Canada Civil Aviation (Transport Canada), which is the aviation authority for Canada, has issued Transport Canada AD CF-2020-13, dated April 28, 2020 (referred to after this as “the MCAI”), to address the unsafe condition on these products. The MCAI states:

The engine manufacturer has discovered that the Automated Damage Tracking System (ADTS) may under-count the number of cycles accrued by the impeller and the High Pressure (HP) compressor rotor. The impeller and HP compressor rotor are both life limited components and exceeding their published life limits could result in the failure of these components.

Failure of the impeller or HP compressor rotor could result in the uncontained release of the impeller or the HP compressor rotor, and subsequently could result in damage to the engine, damage to the helicopter, and loss of control of the helicopter.

This [Transport Canada] AD mandates the use of the Manual Low Cycle Fatigue (LCF) Counting method to ensure that the impeller and HP compressor rotor do not exceed their published life limits.

You may obtain further information by examining the MCAI in the AD docket at https://www.regulations.gov by searching for and locating Docket No. FAA-2021-0103.

FAA's Determination

This product has been approved by the aviation authority of Canada and is approved for operation in the United States. Pursuant to our bilateral agreement with Canada, Transport Canada has notified the FAA of the unsafe condition described in the MCAI and service information. The FAA is issuing this AD because the agency evaluated all the relevant information provided by Transport Canada and determined the unsafe condition described previously is likely to exist or develop in other products of the same type design.

Related Service Information Under 1 CFR Part 51

The FAA reviewed Pratt & Whitney Canada Corp. Alert Service Bulletin (ASB) No. PW210-72-A57142, Revision No. 1, dated March 26, 2020 (ASB No. PW210-72-A57142); and Pratt & Whitney Canada Corp. ASB No. PW210-72-A57143, Revision No. 1, dated March 26, 2020 (ASB No. PW210-72-A57143). ASB No. PW210-72-A57142 specifies procedures for calculating the correct, current LCF cycle count for the impeller and HPC rotor on PW210A model turboshaft engines. ASB No. PW210-72-A57143 specifies procedures for calculating the correct, current LCF cycle count for the impeller and HPC rotor installed on PW210S model turboshaft engines.

This service information is reasonably available because the interested parties have access to it through their normal course of business or by the means identified in the ADDRESSES section.

Other Related Service Information

The FAA reviewed Pratt & Whitney Canada Corp. Task 00-00-00-860-801 and Task 00-00-00-860-803 of Pratt & Whitney Canada Corp. Engine Maintenance Manual (EMM), Manual Part No. 30L2392, Airworthiness Limitations Section (ALS), both at Revision 13, dated September 28, 2020.

Pratt & Whitney Canada Corp. Task 00-00-00-860-801 of Pratt & Whitney Canada Corp. EMM, Manual Part No. 30L2392, identifies the LCF life limits for the impeller and HPC rotor. Pratt & Whitney Canada Corp. Task 00-00-00-860-803 of Pratt & Whitney Canada Corp. EMM, Manual Part No. 30L2392, specifies procedures for manually calculating the correct, current LCF cycle count for the impeller and HPC rotor and provides the formula for manually calculating the accumulated total cycles for the impeller and HPC rotor.

Proposed AD Requirements in This NPRM

This proposed AD would require the use of the manual LCF counting method in place of the ADTS counting method to determine the number of cycles accrued by the impeller and HPC rotor.

Interim Action

The FAA considers that this proposed AD would be an interim action. If final action is later identified, the FAA might consider additional rulemaking.

Costs of Compliance

The FAA estimates that this AD, if adopted as proposed, would affect 66 engines installed on helicopters of U.S. registry.

The FAA estimates the following costs to comply with this proposed AD:

Estimated Costs
Action | Labor cost | Parts cost | Cost per product | Cost on U.S. operators
Manually calculate LCF cycles | 1 work-hour × $85 per hour = $85 | $0 | $85 | $5,610

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Pratt & Whitney Canada Corp.: Docket No. FAA-2021-0103; Project Identifier MCAI-2020-00604-E.

(a) Comments Due Date

The FAA must receive comments on this airworthiness directive (AD) by April 12, 2021.

(b) Affected ADs

None.

(c) Applicability

This AD applies to Pratt & Whitney Canada Corp. (P&WC) PW210A and PW210S model turboshaft engines.

(d) Subject

Joint Aircraft System Component (JASC) Code 7230, Turbine Engine Compressor Section.

(e) Unsafe Condition

This AD was prompted by a report from the manufacturer that the Automated Damage Tracking System (ADTS) may under-count the number of cycles accrued by the impeller and the high-pressure compressor (HPC) rotor, which could result in the failure of these components. The FAA is issuing this AD to prevent failure of the impeller and the HPC rotor. The unsafe condition, if not addressed, could result in the uncontained release of the impeller or the HPC rotor, damage to the engine, damage to the helicopter, and loss of control of the helicopter.

(f) Compliance

Comply with this AD within the compliance times specified, unless already done.

(g) Required Actions

Before exceeding 7,000 starts or 14,000 flight cycles since new (CSN) on the affected engine, or prior to removal of the engine from the aircraft for the purpose of sending the engine to a repair or overhaul facility, whichever occurs first after the effective date of this AD:

(1) Use the manual low-cycle fatigue (LCF) counting method to determine the accumulated LCF cycles for the impeller and the HPC rotor using paragraph 3., Accomplishment Instructions, of P&WC Alert Service Bulletin (ASB) PW210-72-A57142, Revision 1, dated March 26, 2020 or PW210-72-A57143, Revision 1, dated March 26, 2020, as applicable for the engine model.

(2) After performing the actions required by paragraph (g)(1) of this AD, use the manual LCF counting method specified in paragraph (g)(1) of this AD to count subsequent LCF cycles on the impeller and HPC rotor. Do not use the ADTS to count subsequent LCF cycles on the impeller or the HPC rotor.

(h) Definition

For the purpose of this AD, a “start” is an engine start followed by one or more flights.

(i) Alternative Methods of Compliance (AMOCs)

(1) The Manager, ECO Branch, FAA, has the authority to approve AMOCs for this AD, if requested using the procedures found in 14 CFR 39.19. In accordance with 14 CFR 39.19, send your request to your principal inspector or local Flight Standards District Office, as appropriate. If sending information directly to the manager of the ECO Branch, send it to the attention of the person identified in Related Information.

(2) Before using any approved AMOC, notify your appropriate principal inspector, or lacking a principal inspector, the manager of the local flight standards district office/certificate holding district office.

(j) Related Information

(1) For more information about this AD, contact Barbara Caufield, Aviation Safety Engineer, ECO Branch, FAA, 1200 District Avenue, Burlington, MA 01803; phone: (781) 238-7146; fax: (781) 238-7199; email: barbara.caufield@faa.gov.

(2) Refer to Transport Canada Civil Aviation (TCCA) AD CF-2020-13, dated April 28, 2020, for more information. You may examine the TCCA AD in the AD docket at https://www.regulations.gov by searching for and locating it in Docket No. FAA-2021-0103.

(3) For service information identified in this AD, contact Pratt & Whitney Canada Corp., 1000 Marie-Victorin, Longueuil, Quebec, J4G 1A1, Canada; phone: (800) 268-8000. You may view this referenced service information at the FAA, Airworthiness Products Section, Operational Safety Branch, 1200 District Avenue, Burlington, MA 01803. For information on the availability of this material at the FAA, call (781) 238-7759.

Issued on February 19, 2021.
Lance T. Gant,
Director, Compliance & Airworthiness Division, Aircraft Certification Service.

[FR Doc. 2021-03814 Filed 2-25-21; 8:45 am]

BILLING CODE 4910-13-P